DEPARTMENT OF COMMERCE

Foreign-Trade Zones Board

[B-56-2022]

Foreign-Trade Zone (FTZ) 219; Authorization of Production Activity; Barco Stamping Co. Inc.; (Stamped Metal Products); Yuma, Arizona; Correction

The Federal Register notice published on March 27, 2023 (88 FR 18115), for the authorization of production activity for Barco Stamping Co. Inc., located in Yuma, Arizona, is corrected as follows:

In the first paragraph, the location identified as “Subzone 219B” should read “FTZ 219”.

For further information, contact Juanita Chen at juanita.chen@trade.gov.

Dated: March 27, 2023.
Elizabeth Whiteman,
Acting Executive Secretary.

[FR Doc. 2023-07046 Filed 4-4-23; 8:45 am]

BILLING CODE 3510-DS-P